DEPARTMENT OF COMMERCE

Bureau of Industry and Security

15 CFR Part 744

[Docket No. 180112034-8034-01]

RIN 0694-AH48

Russian Sanctions: Addition of Certain Entities to the Entity List

AGENCY: Bureau of Industry and Security, Commerce.

ACTION: Final rule.

SUMMARY: The Bureau of Industry and Security (BIS) with this final rule amends the Export Administration Regulations (EAR) by adding twenty-one entities to the Entity List. The twenty-one entities that are added to the Entity List have been determined by the U.S. Government to be acting contrary to the national security or foreign policy interests of the United States. BIS is taking this action to ensure the efficacy of existing sanctions on the Russian Federation (Russia) for violating international law and fueling the conflict in eastern Ukraine. These entities will be listed on the Entity List under the destinations of Georgia, Poland and Russia.

DATES: This rule is effective February 16, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to Part 744 of the EAR) identifies entities and other persons reasonably believed to be involved in, or that pose a significant risk of being or becoming involved in, activities that are contrary to the national security or foreign policy of the United States. The EAR imposes additional licensing requirements on, and limits the availability of most license exceptions for, exports, reexports, and transfers (in-country) to those persons or entities listed on the Entity List. The license review policy for each listed entity is identified in the License Review Policy column on the Entity List and the impact on the availability of license exceptions is described in the Federal Register notice adding entities or other persons to the Entity List. BIS places entities on the Entity List based on certain sections of part 744 (Control Policy: End-User and End-Use Based) and part 746 (Embargoes and Other Special Controls) of the EAR.

The End-user Review Committee (ERC) is composed of representatives of the Departments of Commerce (Chair), State, Defense, Energy, and where appropriate, the Treasury. The ERC makes decisions to add an entry to the Entity List by majority vote and to remove or modify an entry by unanimous vote. The Departments represented on the ERC have approved these changes to the Entity List.

Entity List Additions

Additions to the Entity List

This rule adds twenty-one entities to the Entity List. These twenty-one entities are being added on the basis of § 744.11 (License requirements that apply to entities acting contrary to the national security or foreign policy interests of the United States) of the EAR. The twenty-one entities being added to the Entity List consist of one entity in Georgia, one entity in Poland and ninteteen entities in Russia.

Under § 744.11(b) (Criteria for revising the Entity List) of the EAR, persons for whom there is reasonable cause to believe, based on specific and articulable facts, have been involved, are involved, or pose a significant risk of being or becoming involved, in activities that are contrary to the national security or foreign policy interests of the United States and those acting on behalf of such persons may be added to the Entity List. The entities being added to the Entity List have been determined to be involved in activities that are contrary to the national security or foreign policy interests of the United States. Specifically, in this rule, BIS adds entities to the Entity List for violating international law and fueling the conflict in eastern Ukraine. These additions ensure the efficacy of existing sanctions on Russia. The particular additions to the Entity List and related authorities are described below.

A. Entity Additions Consistent With Executive Order 13660

Four entities are added based on activities that are described in Executive Order 13660 (79 FR 13493), Blocking Property of Certain Persons Contributing to the Situation in Ukraine, issued on March 6, 2014. As described in the Executive Order, the actions and policies of persons who have asserted governmental authority in Crimea without the authorization of the Government of Ukraine undermine democratic processes and institutions in Ukraine; threaten its peace, security, stability, sovereignty, and territorial integrity; and contribute to the misappropriation of its assets, and thereby constitute an unusual and extraordinary threat to the national security and foreign policy of the United States.

Executive Order 13660 blocks all property and interests in property that are in the United States, that come within the United States, or that are or come within the possession or control of any United States person (including any foreign branch) of any person determined by the Secretary of the Treasury, in consultation with the Secretary of State, to be responsible for or complicit in, or to have engaged in, directly or indirectly, misappropriation of state assets of Ukraine or of an economically significant entity in Ukraine, among other activities. Under Section 8 of the Order, all agencies of the United States Government are directed to take all appropriate measures within their authority to carry out the provisions of the Order.

The Department of the Treasury's Office of Foreign Assets Control (OFAC), pursuant to Executive Order 13660, has designated the following four entities as being within the scope of the Order: Doncoaltrade SP Z O O; Kompaniya Gaz-Alyans; Ugolnye Tekhnologii, OOO; and ZAO Vneshtorgservis. In conjunction with that designation, the Department of Commerce adds all four entities to the Entity List under this rule and imposes a license requirement for exports, reexports, or transfers (in-country) of all items subject to the EAR to these blocked persons. This license requirement implements an appropriate measure within the authority of the EAR to carry out the provisions of Executive Order 13660.

B. Entity Additions Consistent With Executive Order 13661

Two entities are added based on activities that are described in Executive Order 13661 (79 FR 15533), Blocking Property of Additional Persons Contributing to the Situation in Ukraine, issued on March 16, 2014. This Order expanded the scope of the national emergency declared in Executive Order 13660 of March 6, 2014 (79 FR 13493). As described in Executive Order 13661, the actions and policies of the Government of the Russian Federation with respect to Ukraine—including the deployment of Russian military forces in the Crimea region of Ukraine—undermine democratic processes and institutions in Ukraine; threaten its peace, security, stability, sovereignty, and territorial integrity; and contribute to the misappropriation of its assets, and thereby constitute an unusual and extraordinary threat to the national security and foreign policy of the United States.

Executive Order 13661 includes a directive that all property and interests in property that are in the United States, that hereafter come within the United States, or that are or thereafter come within the possession or control of any United States person (including any foreign branch) of the following persons are blocked and may not be transferred, paid, exported, withdrawn, or otherwise dealt in: Persons determined by the Secretary of the Treasury, in consultation with the Secretary of State to have either materially assisted, sponsored or provided financial, material or technological support for, or goods and services to or in support of a senior official of the government of the Russian Federation or operate in the defense or related materiel sector in Russia. Under Section 8 of the Order, all agencies of the United States Government are directed to take all appropriate measures within their authority to carry out the provisions of the Order.

The Department of the Treasury's OFAC, pursuant to Executive Order 13661, on behalf of the Secretary of Treasury, and in consultation with the Secretary of State, has designated the following two entities as being within the scope of the Order: Evro Polis Ltd. and Instar Lodzhistiks, OOO. BIS is also adding these entities to the Entity List pursuant to Executive Order 13661. The two entities added to the Entity List under Executive Order 13661 meet the criteria of Section 1, subparagraph B of the Executive Order 13661 because they operate in Russia's arms or related materiel sector. With respect to these two entities, BIS imposes a license requirement for exports, reexports, or transfers (in-country) of all items subject to the EAR to these entities. This license requirement implements an appropriate measure within the authority of the EAR to carry out the provisions of Executive Order 13661.

C. Entity Additions Consistent With Executive Order 13662

Twelve entities are added to the Entity List based on activities that are described in Executive Order 13662 (79 FR 16169), Blocking Property of Additional Persons Contributing to the Situation in Ukraine, issued on March 20, 2014. This Order expanded the scope of the national emergency declared in Executive Order 13660 of March 6, 2014 and expanded in Executive Order 13661 of March 16, 2014.

Specifically, Executive Order 13662 expanded the scope to include sectors of the Russian economy as may be determined by the Secretary of the Treasury, in consultation with the Secretary of State, such as financial services, energy, metals and mining, engineering, and defense and related materiel. Under Section 8 of the Order, all agencies of the United States Government are directed to take all appropriate measures within their authority to carry out the provisions of the Order.

The Department of the Treasury's OFAC, pursuant to Executive Order 13662, on behalf of the Secretary of the Treasury, and in consultation with the Secretary of State, has designated the following twelve entities as operating in the energy sector of Russia and owned or controlled by, or have acted or purported to act for or on behalf of, directly or indirectly, a person whose property and interests are blocked pursuant to the Order: Kaliningradnefteprodukt OOO; Kinef OOO; Kirishiavtoservis OOO; Lengiproneftekhim OOO; Media-Invest OOO; Novgorodnefteprodukt OOO; Pskovnefteprodukt OOO; SNGB AO; SO Tvernefteprodukt OOO; Sovkhoz Chervishevski PAO; Strakhovove Obshchestvo Surgutneftegaz OOO; and Surgutmebel OOO. In conjunction with that designation, BIS adds all twelve of the entities to the Entity List under this rule and imposes a license requirement for exports, reexports, or transfers (in-country) of all items subject to the EAR to these blocked persons, when the exporter, reexporter or transferor knows that the item will be used directly or indirectly in exploration for, or production of, oil or gas in Russian deepwater (greater than 500 feet) or Arctic offshore locations or shale formations in Russia, or is unable to determine whether the item will be used in such projects. This license requirement implements an appropriate measure within the authority of BIS to carry out the provisions of Executive Order 13662.

D. Entity Additions Consistent With Executive Order 13685

Three entities are added based on activities that are described in Executive Order 13685 (79 FR 77357), Blocking Property of Certain Persons and Prohibiting Certain Transactions with Respect to the Crimea Region of Ukraine, issued on December 19, 2014. In order to take additional steps to address the Russian occupation of the Crimea region of Ukraine with respect to the national emergency declared in Executive Order 13660 of March 6, 2014, and expanded in Executive Order 13661 of March 16, 2014, and Executive Order 13662 of March 20, 2014, certain additional prohibitions with respect to the Crimea region of Ukraine were imposed. In particular, Executive Order 13685 prohibits the export, reexport, sale or supply, directly or indirectly, from the United States or by a U.S. person, wherever located, of any goods, services, or technology to the Crimea region of Ukraine. Under Section 10 of the Order, all agencies of the United States Government are directed to take all appropriate measures within their authority to carry out the provisions of the Order.

The Department of the Treasury's OFAC, pursuant to Executive Order 13685, on behalf of the Secretary of the Treasury and in consultation with the Secretary of State, has designated the following three entities as operating in the Crimea region of Ukraine: Limited Liability Company Foreign Economic Association Technopomexport; PJSC Power Machines; and VAD, AO. In conjunction with these designations, BIS adds all three of these entities to the Entity List under this rule and imposes a license requirement for exports, reexports, or transfers (in-country) of all items subject to the EAR to these blocked persons. This license requirement implements an appropriate measure within the authority of the EAR to carry out the provisions of Executive Order 13685.

For the twenty-one entities added to the Entity List based on activities that are described in Executive Order 13660, 13661, 13662 or 13685, BIS imposes a license requirement for all items subject to the EAR and a license review policy of presumption of denial. The license requirements apply to any transaction in which items subject to the EAR are to be exported, reexported, or transferred (in-country) to any of the entities or in which such entities act as purchaser, intermediate consignee, ultimate consignee, or end-user. In addition, no license exceptions are available for exports, reexports, or transfers (in-country) to the entities being added to the Entity List in this rule.

The acronym “a.k.a.” (also known as) is used in entries on the Entity List to help exporters, reexporters and transferors to better identify listed persons on the Entity List.

This final rule adds the following twenty-one entities to the Entity List:

Georgia

(1) ZAO Vneshtorgservis,

1 Geroyev Street, Tskhinval, South Ossetia, Georgia.

Poland

(1) Doncoaltrade SP Z O O,

Ul. Barbary 21, Katowice, woj. Slaskie, pow. M. Katowice 40-053, Poland.

Russia

(1) Evro Polis Ltd., a.k.a., the following two aliases:

—Evro Polis, OOO; and

—Obshchestvo S Ogranichennoi Otvetstvennostyu Evro Polis.

d. 1A pom. 9.1A, Shosse Ilinskoe, Krasnogorsk, Krasnogorski Raion, Moskovskaya Obl. 143409, Russia;

(2) Instar Lodzhistiks, OOO, a.k.a., the following one alias:

—Instar Logistics.

d. 20 str., 7 ofis 102V, ul. Elektrozavodskaya, Moscow 1072023, Russia;

(3) Kaliningradnefteprodukt OOO, a.k.a., the following three aliases:

—Kaliningradnefteprodukt LLC;

—Limited Liability Company Kaliningradnefteproduct; and

—LLC Kaliningradnefteproduct.

22-b Komsomolskaya Ulitsa, Central District, Kaliningrad, Russia;

(4) Kinef OOO, a.k.a., the following three aliases:

—Kinef, LLC;

—Limited Liability Company Production Association Kirishinefteorgsintez; and

—LLC Kinef.

d. 1 Shosse Entuziastov, Kirishi, Leningradskaya Oblast 187110, Russia;

(5) Kirishiavtoservis OOO, a.k.a., the following two aliases:

—Limited Liability Company Kirishiavtoservis; and

—LLC Kirishiavtoservis.

lit A, 12 Smolenskaya Ulitsa, St. Petersburg 196084;

(6) Kompaniya Gaz-Alyans, OOO, a.k.a., the following three aliases:

—Company Gaz-Alliance LLC;

—Kompaniya Gaz-Alyans, OOO; and

—Obshchestvo S Ogranichennoi Otvetstvennostyu Kompaniya Gaz-Alyans.

15 Ul., Svobody, Nizhni Novgorod, Nizhegorodskaya Obl. 603003, Russia;

(7) Lengiproneftekhim OOO, a.k.a., the following three aliases:

—Institut Po Proektirovaniyu Predpriyaty Neftepererabatyvayuschey I Neftekhimicheskoy Promyshlennosti, Limited Liability Company;

—Limited Liability Company Oil Refining and Petrochemical Facilities Design Institute; and

—LLC Lengiproneftekhim.

d. 94, Obvodnogo Kanala, nab, St. Petersburg 196084, Russia;

(8) Limited Liability Company Foreign Economic Association Technopromexport, a.k.a., the following three aliases:

—Obschestvo S Ogranichennoi Otvestvennostyu Vneshneekonomicheskoe Obedinenie Tekhnopromeksport;

—OOO VO Technopromexport; and

—OOO VO TPE.

Novyi Arbat Str. 15, Building 2, Moscow 119019, Russia;

(9) Media-Invest OOO, a.k.a., the following two aliases:

—Limited Liability Company Media-Invest; and

—LLC Media-Invest.

17 Bld 1 Zubovsky Blvd., Moscow 119847, Russia;

(10) Novgorodnefteprodukt OOO, a.k.a., the following three aliases:

—Limited Liability Company Novgorodnefteproduct;

—LLC Novgorodnefteproduct; and

—Novgorodnefteprodukt LLC.

d. 20 Germana Ulitsa, Veliky Novgorod, Novgorodskaya Oblast 173002, Russia;

(11) PJSC Power Machines, a.k.a., the following three aliases:

—Open Joint Stock Company Power Machines—ZTL, LMZ, Electrosila, Energomachexport;

—Publichnoe Aktsionernoe Obshchestvo Silovye Mashiny—ZTL, LMZ, Elektrosila, Energomasheksport; and

—Silovye Mashiny, PAO.

3A Vatutina St., St. Petersburg 195009, Russia;

(12) Pskovnefteprodukt OOO, a.k.a., the following two aliases:

—Limited Liability Company Marketing Association Pskovnefteproduct; and

—LLC Pskovnefteproduct.

4 Oktyabrsky Prospekt, Pskov 180000, Russia;

(13) SNGB AO, a.k.a., the following three aliases:

—Closed Joint Stock Company Surgutneftegasbank (ZAO SNGB);

—Joint Stock Company Surgutneftegasbank; and

—JSC BANK SNGB.

19 Kukuyvitskogo Street, Surgut 628400, Russia;

(14) SO Tvernefteprodukt OOO, a.k.a., the following two aliases:

—Limited Liability Company Marketing Association Tvernefteproduct; and

—LLC MA Tvernefteproduct.

6 Novotorzhskaya Ulitsa, Tver, Russia;

(15) Sovkhoz Chervishevski PAO, a.k.a., the following three aliases:

—OJSC Sovkhoz Chervishevsky;

—Open Joint Stock Company Sovkhoz Chervishevsky; and

—Sovkhoz Chervishevsky, JSC.

d. 81 Sovetskaya Ulitsa, S. Chervichevsky, Tyumensky Rayon, Tyumensky Oblast 625519, Russia;

(16) Strakhovove Obshchestvo Surgutneftegaz OOO, a.k.a., the following three aliases:

—Insurance Company Surgutneftegas, LLC;

—Limited Liability Company Insurance Company Surgutneftegas; and

—LLC Insurance Company Surgutneftegas.

9/1 Lermontova Ulitsa, Surgut 628418, Russia;

(17) Surgutmebel OOO, a.k.a., the following four aliases:

—Limited Liability Company Syrgutmebel;

—LLC Surgutmebel;

—LLC Syrgutmebel; and

—Surgutmebel, LLC.

Vostochnaya Industrial 1 Territory 2, Poselok Barsovo, Surgutsky District, Yugra, Khanty-Mansiysky Autonomos Okrug, Russia;

(18) Ugolnye Tekhnologii, OOO, a.k.a., the following two aliases:

—Coal Technologies; and

—Obshchestvo S Ogranichennoi Otvetstvennostyu “Ugolnye Tekhnologii”.

d. 25 ofis 13, 14, per. Avtomobilny, Rostov-on-Don, Rostovskaya Oblast 344038, Russia;

(19) VAD, AO, a.k.a, the following seven aliases:

—Aktsionernoe Obshchestvo VAD;

—AO, VAD;

—CJSC VAD;

—Joint Stock Company VAD;

—JSC VAD;

—ZAO VAD; and

—High-Quality Highways.

133, ul. Chernyshevskogo, Vologda, Vologodskaya Obl 160019, Russia; and 122 Grazhdanskiy Prospect, Suite 5, Liter A, St. Petersburg 195267, Russia.

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 15, 2017, 82 FR 39005 (August 16, 2017), has continued the Export Administration Regulations in effect under the International Emergency Economic Powers Act. BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. 553(a)(1)). BIS implementation of this rule is necessary to protect U.S. national security or foreign policy interests by preventing items from being exported, reexported, or transferred (in country) to the entities being added to the Entity List. If this rule were delayed to allow for notice and comment and a delay in effective date, the twenty-one entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule.

5. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

For the reasons stated in the preamble, the Bureau of Industry and Security amends part 744 of the Export Administration Regulations (15 CFR parts 730-774) as follows:

PART 744—[AMENDED]

1. The authority citation for 15 CFR part 744 is revised to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 15, 2017, 82 FR 39005 (August 16, 2017); Notice of September 18, 2017, 82 FR 43825 (September 19, 2017); Notice of November 6, 2017, 82 FR 51971 (November 8, 2017); Notice of January 17, 2018, 83 FR 2731 (January 18, 2018).

2. Supplement No. 4 to part 744 is amended:

a. By adding, in alphabetical order, a heading for Georgia and one Georgian entity;

b. By adding, in alphabetical order, a heading for Poland and one Polish entity; and

c. By adding under the destination of Russia, in alphabetical order, nineteen Russian entities.

The additions read as follows:

Supplement No. 4 to Part 744—Entity List

* * * * *

Country | Entity | License requirement | License review policy | Federal Register citation
* * * * * * *
GEORGIA | ZAO Vneshtorgservis, 1 Geroyev Street, Tskhinval, South Ossetia, Georgia. | For all items subject to the EAR. (See § 744.11 of the EAR). | Presumption of denial | 83 FR [INSERT FR PAGE NUMBER] 2/16/2018.
* * * * * * *
POLAND | Doncoaltrade SP Z O O, Ul. Barbary 21, Katowice, woj. Slaskie, pow. M. Katowice 40-053, Poland. | For all items subject to the EAR. (See § 744.11 of the EAR). | Presumption of denial | 83 FR [INSERT FR PAGE NUMBER] 2/16/2018.
* * * * * * *
RUSSIA | * * * * * *
| Evro Polis Ltd., a.k.a., the following two aliases: —Evro Polis, OOO; and —Obshchestvo S Ogranichennoi Otvetstvennostyu Evro Polis. | For all items subject to the EAR. (See § 744.11 of the EAR). | Presumption of denial | 83 FR [INSERT FR PAGE NUMBER] 2/16/2018.
| d. 1A pom. 9.1A, Shosse Ilinskoe, Krasnogorsk, Krasnogorski Raion, Moskovskaya Obl. 143409, Russia.
| * * * * * *
| Instar Lodzhistiks, OOO, a.k.a., the following one alias: —Instar Logistics. | For all items subject to the EAR. (See § 744.11 of the EAR). | Presumption of denial | 83 FR [INSERT FR PAGE NUMBER] 2/16/2018.
| d. 20 str., 7 ofis 102V, ul. Elektrozavodskaya, Moscow 1072023, Russia.
| * * * * * *
| Kaliningradnefteprodukt OOO, a.k.a., the following three aliases: —Kaliningradnefteprodukt LLC; —Limited Liability Company Kaliningradnefteproduct; and —LLC Kaliningradnefteproduct. | For all items subject to the EAR. (See § 744.11 of the EAR). | Presumption of denial | 83 FR [INSERT FR PAGE NUMBER] 2/16/2018.
| 22-b Komsomolskaya Ulitsa, Central District, Kaliningrad, Russia.
| * * * * * *
| Kinef OOO, a.k.a., the following three aliases: —Kinef, LLC; —Limited Liability Company Production Association Kirishinefteorgsintez; and —LLC Kinef. | For all items subject to the EAR. (See § 744.11 of the EAR). | Presumption of denial | 83 FR [INSERT FR PAGE NUMBER] 2/16/2018.
| d. 1 Shosse Entuziastov, Kirishi, Leningradskaya Oblast 187110, Russia.
| * * * * * *
| Kirishiavtoservis OOO, a.k.a., the following two aliases: —Limited Liability Company Kirishiavtoservis; and —LLC Kirishiavtoservis. | For all items subject to the EAR. (See § 744.11 of the EAR). | Presumption of denial | 83 FR [INSERT FR PAGE NUMBER] 2/16/2018.
| lit A, 12 Smolenskaya Ulitsa, St. Petersburg 196084.
| Kompaniya Gaz-Alyans, OOO, a.k.a., the following three aliases: —Company Gaz-Alliance LLC; —Kompaniya Gaz-Alyans, OOO; and —Obshchestvo S Ogranichennoi Otvetstvennostyu Kompaniya Gaz-Alyans. | For all items subject to the EAR. (See § 744.11 of the EAR). | Presumption of denial | 83 FR [INSERT FR PAGE NUMBER] 2/16/2018.
| 15 Ul., Svobody, Nizhni Novgorod, Nizhegorodskaya Obl. 603003, Russia.
| * * * * * *
| Lengiproneftekhim OOO, a.k.a., the following three aliases: —Institut Po Proektirovaniyu Predpriyaty Neftepererabatyvayuschey I Neftekhimicheskoy Promyshlennosti, Limited Liability Company; —Limited Liability Company Oil Refining and Petrochemical Facilities Design Institute; and —LLC Lengiproneftekhim. | For all items subject to the EAR. (See § 744.11 of the EAR). | Presumption of denial | 83 FR [INSERT FR PAGE NUMBER] 2/16/2018.
| d. 94, Obvodnogo Kanala, nab, St. Petersburg 196084, Russia.
| * * * * * *
| Limited Liability Company Foreign Economic Association Technopromexport, a.k.a., the following three aliases: —Obschestvo S Ogranichennoi Otvestvennostyu Vneshneekonomicheskoe Obedinenie Tekhnopromeksport; | For all items subject to the EAR. (See § 744.11 of the EAR). | Presumption of denial | 83 FR [INSERT FR PAGE NUMBER] 2/16/2018.
| —OOO VO Technopromexport; and —OOO VO TPE.
| Novyi Arbat Str. 15, Building 2, Moscow 119019, Russia.
| * * * * * *
| Media-Invest OOO, a.k.a., the following two aliases: —Limited Liability Company Media-Invest; and —LLC Media-Invest. | For all items subject to the EAR. (See § 744.11 of the EAR). | Presumption of denial | 83 FR [INSERT FR PAGE NUMBER] 2/16/2018.
| 17 Bld 1 Zubovsky Blvd, Moscow 119847, Russia.
| * * * * * *
| Novgorodnefteprodukt OOO, a.k.a., the following three aliases: —Limited Liability Company Novgorodnefteproduct; —LLC Novgorodnefteproduct; and —Novgorodnefteprodukt LLC . | For all items subject to the EAR. (See § 744.11 of the EAR). | Presumption of denial | 83 FR [INSERT FR PAGE NUMBER] 2/16/2018.
| d. 20 Germana Ulitsa, Veliky Novgorod, Novgorodskaya Oblast 173002, Russia.
| * * * * * *
| PJSC Power Machines, a.k.a., the following three aliases: —Open Joint Stock Company Power Machines—ZTL, LMZ, Electrosila, Energomachexport; —Publichnoe Aktsionernoe Obshchestvo Silovye Mashiny—ZTL, LMZ, Elektrosila, Energomasheksport; and —Silovye Mashiny, PAO. | For all items subject to the EAR. (See § 744.11 of the EAR). | Presumption of denial | 83 FR [INSERT FR PAGE NUMBER] 2/16/2018.
| 3A Vatutina St., St. Petersburg 195009, Russia.
| * * * * * *
| Pskovnefteprodukt OOO, a.k.a., the following two aliases: —Limited Liability Company Marketing Association Pskovnefteproduct; and —LLC Pskovnefteproduct. | For all items subject to the EAR. (See § 744.11 of the EAR). | Presumption of denial | 83 FR [INSERT FR PAGE NUMBER] 2/16/2018.
| 4 Oktyabrsky Prospekt, Pskov 180000, Russia.
| * * * * * *
| SNGB AO, a.k.a., the following three aliases: —Closed Joint Stock Company Surgutneftegasbank (ZAO SNGB); —Joint Stock Company Surgutneftegasbank; and —JSC BANK SNGB. | For all items subject to the EAR. (See § 744.11 of the EAR). | Presumption of denial | 83 FR [INSERT FR PAGE NUMBER] 2/16/2018.
| 19 Kukuyvitskogo Street, Surgut 628400, Russia.
| SO Tvernefteprodukt OOO, a.k.a., the following two aliases: —Limited Liability Company Marketing Association Tvernefteproduct; and —LLC MA Tvernefteproduct. | For all items subject to the EAR. (See § 744.11 of the EAR). | Presumption of denial | 83 FR [INSERT FR PAGE NUMBER] 2/16/2018.
| 6 Novotorzhskaya Ulitsa, Tver, Russia.
| * * * * * *
| Sovkhoz Chervishevski PAO, a.k.a., the following three aliases: —OJSC Sovkhoz Chervishevsky; —Open Joint Stock Company Sovkhoz Chervishevsky; and | For all items subject to the EAR. (See § 744.11 of the EAR). | Presumption of denial | 83 FR [INSERT FR PAGE NUMBER] 2/16/2018.
| —Sovkhoz Chervishevsky, JSC.
| d. 81 Sovetskaya Ulitsa, S. Chervichevsky, Tyumensky Rayon, Tyumensky Oblast 625519, Russia.
| * * * * * *
| Strakhovove Obshchestvo Surgutneftegaz OOO, a.k.a., the following three aliases: —Insurance Company Surgutneftegas, LLC; —Limited Liability Company Insurance Company Surgutneftegas; and | For all items subject to the EAR. (See § 744.11 of the EAR). | Presumption of denial | 83 FR [INSERT FR PAGE NUMBER] 2/16/2018.
| —LLC Insurance Company Surgutneftegas.
| 9/1 Lermontova Ulitsa, Surgut 628418, Russia.
| * * * * * *
| Surgutmebel OOO, a.k.a., the following four aliases: —Limited Liability Company Syrgutmebel; —LLC Surgutmebel; —LLC Syrgutmebel; and —Surgutmebel, LLC. | For all items subject to the EAR. (See § 744.11 of the EAR). | Presumption of denial | 83 FR [INSERT FR PAGE NUMBER] 2/16/2018.
| Vostochnaya Industrial 1 Territory 2, Poselok Barsovo, Surgutsky District, Yugra, Khanty-Mansiysky Autonomos Okrug, Russia.
| * * * * * *
| Ugolnye Tekhnologii, OOO, a.k.a., the following two aliases: —Coal Technologies; and —Obshchestvo S Ogranichennoi Otvetstvennostyu “Ugolnye Tekhnologii”. | For all items subject to the EAR. (See § 744.11 of the EAR). | Presumption of denial | 83 FR [INSERT FR PAGE NUMBER] 2/16/2018.
| d. 25 ofis 13, 14, per. Avtomobilny, Rostov-on-Don, Rostovskaya Oblast 344038, Russia.
| * * * * * *
| VAD, AO, a.k.a, the following seven aliases: —Aktsionernoe Obshchestvo VAD; —AO, VAD; —CJSC VAD; | For all items subject to the EAR. (See § 744.11 of the EAR). | Presumption of denial | 83 FR [INSERT FR PAGE NUMBER] 2/16/2018.
| —Joint Stock Company VAD; —JSC VAD; —ZAO VAD; and —High-Quality Highways.
| 133, ul. Chernyshevskogo, Vologda, Vologodskaya Obl 160019, Russia; and 122 Grazhdanskiy Prospect, Suite 5, Liter A, St. Petersburg 195267, Russia.
| * * * * * *

Dated: February 12, 2018.
Richard E. Ashooh,
Assistant Secretary for Export Administration.

[FR Doc. 2018-03234 Filed 2-15-18; 8:45 am]

BILLING CODE 3510-33-P